DEPARTMENT OF COMMERCE

Meeting of the National Advisory Council on Innovation and Entrepreneurship

AGENCY: Office of Innovation and Entrepreneurship, U.S. Department of Commerce.

ACTION: Notice of an open meeting.

SUMMARY: The National Advisory Council on Innovation and Entrepreneurship will hold a meeting on Tuesday, March 15, 2011. The meeting will be conducted from 9 a.m. to 12 p.m. and will be opened to the public via listen only conference call, as well as limited number of open seats, at the event. The Council was chartered on November 10, 2009, to advise the Secretary of Commerce on matters relating to innovation and entrepreneurship in the United States.

DATE: March 15, 2011.

TIME: 9 a.m.-12 p.m. (EST).

ADDRESSES: Public participation via a listen in conference number can be reached at 888-942-9574, and passcode, 6315042. Public participation is also available via a limited number of seats. For more information on open seating please reference http://www.eda.gov/NACIE. Please specify any requests for reasonable accommodation of auxiliary aids at least five business days in advance of the meeting. Last minute requests will be accepted, but may be impossible to fill.

SUPPLEMENTARY INFORMATION: Agenda topics to be discussed include: Briefings by outside experts, sub-committee updates and discussion, and Q & A with the audience. Any member of the public may submit pertinent written comments concerning the Council's affairs at any time before and after the meeting. Comments may be submitted to Claire Brunner at the contact information indicated below. Copies of Board meeting minutes will be available within 90 days of the meeting.

FOR FURTHER INFORMATION CONTACT: Claire Brunner, Office of Innovation and Entrepreneurship, Room 7019, 1401 Constitution Avenue, NW., Washington, DC 20230, telephone: 202-482-2686, e-mail: cbrunner@eda.doc.gov. Please reference, “NACIE March 15, 2011” in the subject line of your e-mail.

Dated: February 24, 2011.
Paul J. Corson,
Office of Innovation and Entrepreneurship, U.S. Department of Commerce.

[FR Doc. 2011-4664 Filed 3-1-11; 8:45 am]

BILLING CODE 3510-03-P